DEPARTMENT OF THE INTERIOR

Bureau of Reclamation

[RR03240000, XXXR4079V4, RX122562102010000]

Termination of Notice of Intent To Prepare an Environmental Impact Statement for the Navajo Generating Station-Kayenta Mine Complex

AGENCY: Bureau of Reclamation, Interior.

ACTION: Notice.

SUMMARY: The Bureau of Reclamation (Reclamation) is terminating preparation of an Environmental Impact Statement (EIS) for the Navajo Generating Station-Kayenta Mine Complex (NGS-KMC). The proposed action was modified in 2017, and Reclamation determined that an Environmental Assessment (EA) rather than an EIS was the appropriate level of environmental documentation for the modified proposed action. An EA was prepared on an Extension Lease by Reclamation and the Bureau of Indian Affairs (BIA)-Navajo Region as joint lead agencies. Signed Findings of No Signficiant Impact (FONSI) were announced to the public on November 30, 2017.

FOR FURTHER INFORMATION CONTACT: Ms. Leslie Meyers, Bureau of Reclamation, Phoenix Area Office, 6150 West Thunderbird Road, Glendale, AZ 85306-4001; telephone (623) 773-6211; facsimile (623) 773-6480; email lmeyers@usbr.gov. Persons who use a telecommunications device for the deaf may call the Federal Relay Service (Fed Relay) at 1-800-877-8339 TTY/ASCII to contact the above individual during normal business hours or to leave a message or question(s) after hours. You will receive a reply during normal business hours.

SUPPLEMENTARY INFORMATION: Pursuant to the National Environmental Policy Act (NEPA) of 1969, as amended, 42 U.S.C. 4231-4347; the Council on Environmental Quality's Regulations for Implementing the Procedural Provisions of NEPA, 40 CFR parts 1500 through 1508; and the Department of the Interior's regulations, 43 CFR part 46, a Notice of Intent to prepare the EIS for the NGS-KMC Project was published in the Federal Register on May 16, 2014 (79 FR 28546). Under the proposed action, Reclamation and other federal agencies would provide federal approvals and/or decisions necessary to continue the operation and maintenance of the NGS-KMC facilities through December 2044.

Publication of the Federal Register notice was followed with a public scoping period that ended on July 7, 2014. The Draft EIS was made available for public review and comment from September 30 to December 29, 2016.

On February 13, 2017, the utility owners of NGS-KMC (Lessees) issued a statement indicating they no longer intended to operate NGS-KMC after expiration of the existing 1969 Lease, on December 22, 2019, citing the rapidly changing economics of the energy industry. The statement also confirmed the Lessees would be willing to operate NGS-KMC through December 2019, if all necessary agreements were reached with the Navajo Nation, to allow for retirement of NGS-KMC within 5 years. The EIS proposed action was modified and Reclamation determined that an EA, rather than an EIS, was the appropriate level of environmental documentation for the modified proposed action.

Background

The 1969 Lease allowed one additional year after December 2019 for retirement of NGS-KMC. Subsequent planning studies indicated 2 or more years would likely be required to complete this work. In addition, 30 years of post-closure testing, monitoring, and reporting (post-closure activities) would be required. The Lessees along with the Navajo Nation agreed to a new lease, called the Extension Lease, which would enable NGS-KMC to continue to operate through December 22, 2019, and allow up to 5 years to complete retirement activities, and allow up to an additional 30 years for implementing post-closure activities. The Extension Lease became effective on December 1, 2017, following the Department of the Interior approvals.

Reclamation and BIA-Navajo Region issued an EA and draft FONSIs for public comment beginning October 5, 2017. Comments from 10 entities were received. Reclamation and BIA-Navajo Region issued final signed FONSIs on November 27, and November 28, respectively. The Extension Lease and all accompanying documents were signed by then Principal Deputy Assistant Secretary for Indian Affairs on November 29, 2017. The Final Environmental Assessment For The Navajo Generating Station Extension Lease and the Final Finding of No Significant Impact for the Navajo Generating Station Extension Lease were announced to the public on November 30, 2017; therefore, the completion of the original EIS has been cancelled.

Dated: May 18, 2020.
Stacy L. Wade,
Deputy Regional Director, Interior Region 8: Lower Colorado Basin, Bureau of Reclamation.

[FR Doc. 2020-11048 Filed 5-21-20; 8:45 am]

BILLING CODE 4332-90-P